DEPARTMENT OF JUSTICE

[OMB 1140-0052]

Agency Information Collection Activities; Proposed eCollection eComments Requested; Office of Strategic Management Environmental Assessment Outreach

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 30 days until June 4, 2025.

FOR FURTHER INFORMATION CONTACT: If you have comments especially on the estimated public burden or associated response time, suggestions, or need a copy of the proposed information collection instrument with instructions or additional information, please contact: Jeffrey Hosmer, Office of Strategic Management, by email at Jeffrey.hosmer@atf.gov or telephone at 202-648-7132.

SUPPLEMENTARY INFORMATION: The proposed information collection was previously published in the Federal Register at 90 FR 116 on Thursday, January 2, 2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control 1140-0052. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Office of Strategic Management Environmental Assessment Outreach.

3. Agency form number, if any, and the applicable component of the Department of Justice sponsoring the collection: None.

Component: Bureau of Alcohol, Tobacco, Firearms and Explosives, U.S. Department of Justice.

4. Affected public who will be asked or required to respond, as well as a brief abstract: Affected Public: Federal Government.

Abstract: Under the Government Performance and Results Modernization Act of 2010, ATF must update its strategic plan every four years and identify key external factors that could significantly affect their ability to achieve strategic goals and objectives. For this purpose, ATF conducts outreach for feedback from ATF stakeholders as part of the Bureau's quadrennial assessment process. Information Collection (IC) OMB 1140-0052 is being revised to include the burden adjustment due to a decrease in the number of respondents over time, from 1,500 to 47, and a change in calculating the burden to respondents from using the full set of those who receive the questionnaire to using only those who respond, further reducing the number of respondents from 47 to 7 and reducing the collective hour burden from 450 to 2 hours. There are also now 47 respondents, from which there were seven total responses associated with this information collection.

5. Obligation to Respond: Voluntary.

6. Total Estimated Number of Respondents: 47 respondents.

7. Estimated Time per Respondent: 0.3 hours.

8. Frequency: Once annually.

9. Total Estimated Annual Time Burden: 2 hours.

10. Total Estimated Annual Other Costs Burden: $0.

If additional information is required contact: Darwin Arceo, Department Clearance Officer, Policy and Planning Staff, Justice Management Division, United States Department of Justice, Two Constitution Square, 145 N Street NE, 4W-218 Washington, DC 20530.

Dated: April 29, 2025.
Darwin Arceo,
Department Clearance Officer for PRA, U.S. Department of Justice.

[FR Doc. 2025-07713 Filed 5-2-25; 8:45 am]

BILLING CODE 4410-FY-P